DEPARTMENT OF THE INTERIOR

Bureau of Land Management

[Utah; UTU-76188; UT-050-1430-DB-24-1A]

Utah; Initial Classification of the Public Lands for State Indemnity Selection

Pursuant to title 43 Code of Federal Regulations, subpart 2400; and section 7 of the Act of June 28, 1934; and the provisions granted to the State under the provisions of Act of Congress of August 17, 1958 (72 Stat. 928) as amended, and the acts supplementary and amendatory thereto, the public lands described below are hereby classified by State Indemnity Selection. The State of Utah has filed application to acquire 1479.84 acres of public lands in lieu of certain school lands that were encumbered by other rights or reservations before the State's title could attach. This application was assigned serial number UTU-76188.

The notice of proposed classification of these lands was published July 10, 1998, in the Federal Register volume 63, number 132, page 37407, and was widely publicized. As a result of the publication, Southern Utah Wilderness Alliance (SUWA) protested the proposed classification of the lands because a portion of the lands were within an area proposed for wilderness by the Utah Wilderness Coalition. They also appealed the adequacy of the environmental assessment. As a result of this protest/appeal the following lands are excluded from this initial classification: Township 36 South, Range 11 East, Section 29, W½SW¼, SE¼W¼, and Township. 37 South, Range 11 East, Section 5, Lots 3 and 4, S½NW¼, SW¼. Salt Lake Meridian, Utah, Only the lands outside the area proposed for wilderness are now included in this Initial Classification Decision.

The lands included in this classification are located within Garfield County, Utah, and are described as follows: Township 36 South, Range 11 East, Section 15, All, and Section 29, W½SE¼, and Township 37 South, Range 11 East, Section 5, Lots 1 and 2, S½NE¼, and SE¼, Salt Lake meridian, Utah. Containing approximately 1039.98 acres.

This classification decision is based on the following disposal criteria set forth in title 43, Code of Federal Regulations, part 2400.

Transfer of the lands to the State will help fulfill the Federal government's common school land grant to the State, and constitute a public purpose use of the land. Lands found to be valuable for a public purpose use will be considered chiefly valuable for public purposes (43 CFR 2430.2b).

The subject lands are administered pursuant to section 3 of the Taylor Grazing Act. Permittees in the Rockies Allotment are as follows: Robert Williams, P.O. Box 34, Teasdale, Utah 84773, Dyle Williams, P.O. Box 96, Teasdale, Utah 84773, Ted R. Taylor, HCR 61 Box 350, Fremont, Utah 84747, and Security Ranches, Gary Hallows, P.O. Box 13, Loa, Utah 84747. There are no grazing improvements of record on the subject lands. In accordance with 43 CFR 4110.4-2, the permittees shall be given two years prior notification before their grazing preferences may be reduced. Prior notification occurred upon publication of the Proposed Classification Decision in the Federal Register on July 10, 1998.

If these lands are clearlisted before July 10, 2000, the grazing may continue until that date. If the lands are clearlisted after July 10, 2000, this grazing use will be terminated at the time title to the land is transferred to the State. However, State law and School and Institutional Trust Land Administration procedures provide for the offering to holders of Bureau of Land Management grazing permits, licenses, or leases the first right to lease lands that are transferred to the State.

Threatened and Endangered Species and Cultural Resources Evaluations have been performed and the land approved for subject classification. Any cultural resources will be managed by the State of Utah in accordance with the State Historical Preservation Officer (SHPO).

A Mineral Report has been prepared to evaluate the mineral potential for the subject lands and to determine whether these lands are mineral in character. The lands are not encumbered by any mining claim, mineral lease, or authorized for mineral material disposal. The lands are not part of a Known Geothermal Resource Area, Known Geologic Structure, or any other known Leasing area. Strategic and critical mineral are not known or inferred to occur within the boundaries of the subject lands.

Rights-of-way granted by the Bureau of Land Management on the above lands will transfer with the land or may be reserved to the United States (see section 508 of FLPMA). Oil and gas leases (geothermal, other leasing act minerals) will remain in effect under the terms and conditions of the lease. (Upon expiration or termination of the leases, or any authorized extensions thereof, such rights shall automatically vest in the State.) Public lands classified by this notice are shown on maps on file and available for inspection in the Richfield Field Office.

For a period of 30 days from the date of publication in the Federal Register, this classification shall be subject to exercise of administrative review and modification by the Secretary of the Interior as provided for in 43 CFR 2461.3 and 2462.3. Interested parties may submit comments to the Secretary of the Interior, LLM 320, Washington, DC 20240.

Dated: June 12, 2000.
Jerry W. Goodman,
Field Manager.

[FR Doc. 00-16217 Filed 6-26-00; 8:45 am]

BILLING CODE 4310-DQ-P